ENVIRONMENTAL PROTECTION AGENCY

40 CFR Part 300

[FRL-7156-5]

National Oil and Hazardous Substances Pollution Contingency Plan; National Priorities List; Correction

AGENCY: Environmental Protection Agency (EPA).

ACTION: Notice of deletion for the White Bridge Road property of the Asbestos Dump Superfund site from the National Priorities List; correction.

SUMMARY: The Environmental Protection Agency (EPA) published a document in the Federal Register of February 8, 2002 (67 FR 5955), announcing the deletion of the White Bridge Road property of the Asbestos Dump Superfund site from the National Priorities List. The document contained an error regarding a reference to a table of appendix B of 40 CFR part 300. This document corrects the reference to “Table 2” to read “Table 1”.

DATES: Effective on March 14, 2002.

FOR FURTHER INFORMATION CONTACT: Kim O'Connell, (212) 637-4399; e-mail: oconnell.kim@epa.gov.

SUPPLEMENTARY INFORMATION: In the Federal Register of February 8, 2002, in FR Doc. 02-3098, under the “PART 300—[AMENDED]” caption, make the following correction:

PART 300—[CORRECTED]

Appendix B—[Corrected]

On page 5955, in the second column, correct amendatory instruction 2 to read as follows:

2. Table 1 of appendix B to part 300 is amended by adding a “P” in the Notes column in the entry for Asbestos Dump, Millington, New Jersey.

Dated: February 25, 2002.
William J. Muszynski,
Deputy Regional Administrator, Region II.

[FR Doc. 02-5864 Filed 3-13-02; 8:45 am]

BILLING CODE 6560-50-P